DEPARTMENT OF ENERGY

Federal Energy Regulatory Commission

Combined Notice of Filings #1

Take notice that the Commission received the following exempt wholesale generator filings:

Docket Numbers: EG17-77-000.

Applicants: Sweetwater Solar, LLC.

Description: Notice of Self-Certification of Exempt Wholesale Generator Status of Sweetwater Solar, LLC.

Filed Date: 3/13/17.

Accession Number: 20170313-5175.

Comments Due: 5 p.m. ET 4/3/17.

Take notice that the Commission received the following electric rate filings:

Docket Numbers: ER17-528-001.

Applicants: Baltimore Gas and Electric Company, PJM Interconnection, L.L.C.

Description: Tariff Amendment: BGE Response to February 9, 2017 Deficiency Letter to be effective 2/11/2017.

Filed Date: 3/13/17.

Accession Number: 20170313-5110.

Comments Due: 5 p.m. ET 4/3/17.

Docket Numbers: ER17-1024-001.

Applicants: Southwest Power Pool, Inc.

Description: Tariff Amendment: 1154R13 Substitute Associated Electric Cooperative NITSA and NOA to be effective 2/1/2017.

Filed Date: 3/10/17.

Accession Number: 20170310-5249.

Comments Due: 5 p.m. ET 3/31/17.

Docket Numbers: ER17-1154-000.

Applicants: Mattawoman Energy, LLC.

Description: Petition of Mattawoman Energy, LLC for Limited Waiver of the PJM Interconnection, L.L.C. Open Access Transmission Tariff, Request for Shortened Comment Period, and Request for Action by April 10, 2017.

Filed Date: 3/9/17.

Accession Number: 20170309-5252.

Comments Due: 5 p.m. ET 3/23/17.

Docket Numbers: ER17-1159-000.

Applicants: Consumers Energy Company, CMS Energy Resource Management Company.

Description: Application of the Consumers Energy Company, et al. for Waiver of Affiliate Restrictions Related to the MISO 2018 Planning Year Auction for Capacity.

Filed Date: 3/10/17.

Accession Number: 20170310-5231.

Comments Due: 5 p.m. ET 3/31/17.

Docket Numbers: ER17-1160-000.

Applicants: Entergy Arkansas, Inc.

Description: § 205(d) Rate Filing: EAI MSS-4 Amended PPAs to be effective 5/9/2017.

Filed Date: 3/10/17.

Accession Number: 20170310-5269.

Comments Due: 5 p.m. ET 3/31/17.

Docket Numbers: ER17-1162-000.

Applicants: Midcontinent Independent System Operator, Inc. MidAmerican Energy Company.

Description: § 205(d) Rate Filing: 2017-03-13_Revisions to MidAmerican Attachment O-27A Depreciation Rates to be effective 6/1/2017.

Filed Date: 3/13/17.

Accession Number: 20170313-5169.

Comments Due: 5 p.m. ET 4/3/17.

Docket Numbers: ER17-1163-000.

Applicants: Southern California Edison Company.

Description: § 205(d) Rate Filing: Notice of Cancellation of FTS Agreement, Fourth Revised Rate Schedule No. 131 to be effective 3/31/2017.

Filed Date: 3/13/17.

Accession Number: 20170313-5213.

Comments Due: 5 p.m. ET 4/3/17.

Docket Numbers: ER17-1167-000.

Applicants: New York Independent System Operator, Inc.

Description: § 205(d) Rate Filing: NYISO tariff revision re: implement the BoP TCC Auction structure to be effective 12/31/9998.

Filed Date: 3/13/17.

Accession Number: 20170313-5234.

Comments Due: 5 p.m. ET 4/3/17.

Docket Numbers: ER17-1168-000.

Applicants: Southern California Edison Company.

Description: § 205(d) Rate Filing: Amendment to Appendix II to be effective 3/31/2017.

Filed Date: 3/13/17.

Accession Number: 20170313-5243.

Comments Due: 5 p.m. ET 4/3/17.

Docket Numbers: ER17-1170-000.

Applicants: Duke Energy Progress, LLC, Duke Energy Florida, LLC, Duke Energy Carolinas, LLC.

Description: § 205(d) Rate Filing: OATT Attachment C-1 Inta-Day Amendment Filing to be effective 6/1/2017.

Filed Date: 3/13/17.

Accession Number: 20170313-5247.

Comments Due: 5 p.m. ET 4/3/17.

Docket Numbers: ER17-1171-000.

Applicants: PJM Interconnection, L.L.C

Description: § 205(d) Rate Filing: Original Service Agreement No. 4645, Queue No. AA1-049/AA1-132 to be effective 2/13/2017.

Filed Date: 3/13/17.

Accession Number: 20170313-5259.

Comments Due: 5 p.m. ET 4/3/17.

Docket Numbers: ER17-1172-000.

Applicants: PJM Interconnection, L.L.C

Description: Tariff Cancellation: Notice of Cancellation of First Revised Service Agreement No. 4288 to be effective 4/22/2017.

Filed Date: 3/13/17.

Accession Number: 20170313-5261.

Comments Due: 5 p.m. ET 4/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2017.
Nathaniel J. Davis, Sr.,
Deputy Secretary.

[FR Doc. 2017-05436 Filed 3-17-17; 8:45 am]

BILLING CODE 6717-01-P